DEPARTMENT OF TRANSPORTATION

Federal Aviation Administration

14 CFR Part 39

[Docket No. 2004-CE-07-AD; Amendment 39-13535; AD 2004-06-09]

RIN 2120-AA64

Airworthiness Directives; The Lancair Company Models LC40-550FG and LC42-550FG Airplanes

AGENCY: Federal Aviation Administration (FAA), DOT.

ACTION: Final rule; request for comments.

SUMMARY: The FAA is adopting a new airworthiness directive (AD) for certain The Lancair Company (Lancair) Models LC40-550FG and LC42-550FG airplanes. This AD requires you to repetitively inspect the fuel pressure transducer for evidence of chafing and measure the cross section diameter (as necessary). The AD also requires you to install a compliance kit at a time dependent on the outcomes of the inspections and measurement. Installation of the kit is terminating action for the repetitive inspection requirements. This AD is the result of several reports of the fuel pressure transducer wearing through at the threads where it attached to the fuel line. We are issuing this AD to detect and correct chafing and wear of the fuel pressure transducer, which could result in failure of the transducer threaded fitting with a resulting fuel leak. These fuel leaks could lead to engine power loss or fire.

DATES: This AD becomes effective on May 3, 2004.

As of May 3, 2004, the Director of the Federal Register approved the incorporation by reference of certain publications listed in the regulation.

We must receive any comments on this AD by June 1, 2004.

ADDRESSES: Use one of the following to submit comments on this AD:

• By mail: FAA, Central Region, Office of the Regional Counsel, Attention: Rules Docket No. 2004-CE-07-AD, 901 Locust, Room 506, Kansas City, Missouri 64106.

• By fax: (816) 329-3771.

• By e-mail: 9-ACE-7-Docket@faa.gov. Comments sent electronically must contain “Docket No. 2004-CE-07-AD” in the subject line. If you send comments electronically as attached electronic files, the files must be formatted in Microsoft Word 97 for Windows or ASCII.

You may get the service information identified in this AD from The Lancair Company, 22550 Nelson Rd., Bend, Oregon 97701; telephone: (541) 318-1144; facsimile: (541) 318-1177.

You may view the AD docket at FAA, Central Region, Office of the Regional Counsel, Attention: Rules Docket No. 2004-CE-07-AD, 901 Locust, Room 506, Kansas City, Missouri 64106. Office hours are 8 a.m. to 4 p.m., Monday through Friday, except Federal holidays.

FOR FURTHER INFORMATION CONTACT: Jeff Morfitt, Aerospace Engineer, Seattle Aircraft Certification Office, 1601 Lind Avenue SW., Renton, Washington 98055; telephone: 425-917-6405; facsimile: 425-917-6590.

SUPPLEMENTARY INFORMATION:

What Events Have Caused This AD?

The FAA has received several reports of wear of the fuel pressure transducer at the threads due to vibration and the consequent abrasion in the mount. There was one report of a failure of the mount with a resulting fuel leak in a Lancair Model LC40-550FG with about 370 hours time-in-service.

What Is the Potential Impact if FAA Took No Action?

This fuel leak could lead to engine power loss or fire.

Is There Service Information That Applies to This Subject?

Lancair has issued:

—Service Bulletin No. SB-04-002B, dated March 10, 2004; and

—Compliance Kit Instruction No. CK-002, dated March 10, 2004.

What Are the Provisions of This Service Information?

The service information includes procedures for:

—Repetitively inspecting the fuel pressure transducer and related parts for evidence of chafing;

—measuring the diameter of the transducer if chafing is found; and

—installing Compliance Kit Instruction No. CK-002.

FAA's Determination and Requirements of the AD

What Has FAA Decided?

We have evaluated all pertinent information and identified an unsafe condition that is likely to exist or develop on other products of this same type design.

Since the unsafe condition described previously is likely to exist or develop on other Lancair Models LC40-550FG and LC42-550FG airplanes of the same type design, we are issuing this AD to detect and correct chafing and wear of the fuel pressure transducer, which could result in failure of the transducer threaded fitting with a resulting fuel leak. These fuel leaks could lead to engine power loss or fire.

What Does This AD Require?

This AD requires you to incorporate the actions in the previously-referenced service bulletin.

In preparing this rule, we contacted type clubs and aircraft operators to get technical information and information on operational and economic impacts. We did not receive any information through these contacts. If received, we would have included a discussion of any information that may have influenced this action in the rulemaking docket.

How Does the Revision to 14 CFR Part 39 Affect This AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I Have the Opportunity to Comment Before You Issue the Rule?

This AD is a final rule that involves requirements affecting flight safety and was not preceded by notice and an opportunity for public comment; however, we invite you to submit any written relevant data, views, or arguments regarding this AD. Send your comments to an address listed under ADDRESSES. Include “AD Docket No. 2004-CE-07-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will This AD Impact Various Entities?

We have determined that this AD will not have federalism implications under Executive Order 13132. This AD will not have a substantial direct effect on the States, on the relationship between the national government and the States, or on the distribution of power and responsibilities among the various levels of government.

Will This AD Involve a Significant Rule or Regulatory Action?

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-CE-07-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-06-09 The Lancair Company: Amendment 39-13535; Docket No. 2004-CE-07-AD.

When Does This AD Become Effective?

(a) This AD becomes effective on May 3, 2004.

Are Any Other ADs Affected by This Action?

(b) None.

What Airplanes Are Affected by This AD?

(c) This AD affects the following airplane models and serial numbers that are certificated in any category:

Model | Serial numbers
LC40-550FG | 40004 through 40079
LC42-550FG | 42002 through 42045

What Is the Unsafe Condition Presented in This AD?

(d) This AD is the result of several reports of that the fuel pressure transducer had worn through at the threads where it attached to the fuel line. We are issuing this AD to detect and correct chafing and wear of the fuel pressure transducer, which could result in failure of the transducer threaded fitting with a resulting fuel leak. These fuel leaks could lead to engine power loss or fire.

What Must I Do to Address This Problem?

(e) To address this problem, you must do the following:

Actions | Compliance | Procedures
(1) Inspect the fuel pressure transducer, as follows: (i) Visually inspect the fuel inlet of the transducer for chafing (surface discontinuity or discoloration) (ii) If chafing is found, use a caliper and measure the outside diameter of the fuel inlet fitting (rotating the transducer while noting the minimum cross sectional measurement). If the measurement is 0.370 inches or more and there is no evidence of fuel leakage, then repetitively inspect until you do the modification in paragraph (e)(3) of this AD | Initially, unless already done within the last 25 hours time-in-service (TIS), inspect upon accumulating 100 hours TIS or within 5 hours TIS after May 3, 2004 (the effective date of this AD), whichever occurs later Repetitively inspect thereafter at intervals not to exceed 25 hours TIS until the modification in paragraph (e)(3) of this AD is done. The modification in paragraph (e)(3) of this AD is terminating action for the repetitive inspection requirements in this AD | Follow The Lancair Company Model 300/350 Mandatory Service Bulletin No. SB-04-002B, dated March 10, 2004, and the applicable airplane maintenance manual.
(2) If the measurement of the outside diameter of the fuel inlet fitting is 0.369 inches or less, do the modification in paragraph (3)(3) of this AD | Before further flight after the inspection required in paragraph (e)(1) of this AD in which the measurement of 0.369 inches or less is found | Follow The Lancair Company Model 300/350 Mandatory Service Bulletin No. SB-04-002B, dated March 5, 2004, The Lancair Company Model 300/350 Compliance Kit Instruction No. CK-002, dated March 10, 2004, and the applicable airplane maintenance manual.
(3) Install Compliance Kit CK-002 | Within 100 hours TIS after May 3, 2004 (the effective date of this AD) or before further flight if the criteria in paragraph (e)(2) of this AD exists. You may do this installation before this time as terminating action for the repetitive inspection requirements | Follow The Lancair Company Model 300/350 Compliance Kit Instruction No. CK-002, dated March 10, 2004, and the applicable airplane maintenance manual.

May I Request an Alternative Method of Compliance?

(f) You may request a different method of compliance or a different compliance time for this AD by following the procedures in 14 CFR 39.19. Unless FAA authorizes otherwise, send your request to your principal inspector. The principal inspector may add comments and will send your request to the Manager, Seattle Aircraft Certification Office (ACO), FAA. For information on any already approved alternative methods of compliance, contact Jeff Morfitt, Aerospace Engineer, Seattle ACO, 1601 Lind Avenue SW., Renton, Washington 98055; telephone: 425-917-6405; facsimile: 425-917-6590.

May I Obtain a Special Flight Permit for the Initial Inspection Requirement of This AD?

(g) No. Special flight permits are not allowed for this AD. Part 39 of the Federal Aviation Regulations (14 CFR part 39) provides blanket approval of special flight permits for ADs, unless otherwise specified in the individual AD. The FAA has determined that the safety issue is severe enough that the chafing in the fuel pressure transducer or fuel leaks must be corrected before further operation.

Does This AD Incorporate Any Material by Reference?

(h) You must do the actions required by this AD following the instructions in The Lancair Company Model 300/350 Mandatory Service Bulletin No. SB-04-002B, dated March 10, 2004, and The Lancair Company Model 300/350 Compliance Kit Instruction No. CK-002, dated March 10, 2004. The Director of the Federal Register approved the incorporation by reference of this service information in accordance with 5 U.S.C. 552(a) and 1 CFR part 51. You may get a copy from The Lancair Company, 22550 Nelson Rd., Bend, Oregon 97701; telephone: (541) 318-1144; facsimile: (541) 318-1177. You may review copies at FAA, Central Region, Office of the Regional Counsel, 901 Locust, Room 506, Kansas City, Missouri 64106; or at the Office of the Federal Register, 800 North Capitol Street, NW., suite 700, Washington, DC.

Issued in Kansas City, Missouri, on March 16, 2004.
James E. Jackson,
Acting Manager, Small Airplane Directorate, Aircraft Certification Service.

[FR Doc. 04-6498 Filed 3-25-04; 8:45 am]

BILLING CODE 4910-13-P